DEPARTMENT OF HOMELAND SECURITY

Coast Guard

33 CFR Part 117

[Docket No. USCG-2016-0257]

RIN 1625-AA09

Drawbridge Operation Regulation; Delaware River, Pennsauken Township, NJ

AGENCY: Coast Guard, DHS.

ACTION: Notice of proposed rulemaking; notice reopening comment period.

SUMMARY: The Coast Guard is reopening the comment period to solicit additional comments concerning the notice of proposed rulemaking (NPRM), which published on June 30, 2017, and was initially reopened for comments on December 6, 2017. Reopening the comment period will allow the public to provide input on the proposed change to the regulation governing the DELAIR Memorial Railroad Bridge across the Delaware River, mile 104.6, at Pennsauken Township, NJ.

DATES: The comment period for the proposed rule published June 30, 2017, at 82 FR 29800, is reopened. Comments and related material must reach the Coast Guard on or before March 2, 2018.

ADDRESSES: You may submit comments identified by docket number USCG-2016-0257 using Federal eRulemaking Portal at http://www.regulations.gov.

See the “Public Participation and Request for Comments” portion of the SUPPLEMENTARY INFORMATION section below for instructions on submitting comments.

FOR FURTHER INFORMATION CONTACT: If you have questions on this proposed rule, call or email Mr. Hal R. Pitts, Fifth Coast Guard District (dpb); telephone (757) 398-6222, email Hal.R.Pitts@uscg.mil.

SUPPLEMENTARY INFORMATION:

I. Background and Purpose

On June 30, 2017, we published a notice of proposed rulemaking (NPRM) entitled, “Drawbridge Operation Regulation; Delaware River, Pennsauken Township, NJ” in the Federal Register (82 FR 29800). The original comment period closed on August 18, 2017. The NPRM proposed changes to the regulation governing the DELAIR Memorial Railroad Bridge across the Delaware River, mile 104.6, at Pennsauken Township, and contained useful background and analysis related to the proposed changes. The installation of the remote operation system capabilities did not change the operational schedule of the bridge.¹ The public is encouraged to review the NPRM.

¹ A full description of the remote operational system is outlined in the aforementioned publication, which can be found at http://regulations.gov. (see ADDRESSES for more information).

On April 12, 2017, we published a temporary deviation entitled “Drawbridge Operation Regulation; Delaware River, Pennsauken Township, NJ” in the Federal Register (82 FR 17561). This temporary deviation was performed from 8 a.m. on April 24, 2017, through 7:59 a.m. on October 21, 2017, and included a request for comments and related material to reach the Coast Guard on or before August 18, 2017. During this initial temporary deviation the bridge owner identified deficiencies in the remote operation center procedures, bridge to vessel communications, and equipment redundancy. Comments concerning these deficiencies were submitted to the docket and provided to the Coast Guard and bridge owner by representatives from the Mariners' Advisory Committee for the Bay and River Delaware.

The bridge owner implemented policies and provided training to address the procedural and communications deficiencies, and implemented backup systems to mitigate potential equipment and systems failures. These changes were not fully evaluated during the temporary deviation ending October 21, 2017. Therefore, the Coast Guard decided to issue a second temporary deviation to complete the evaluation of the changes incorporated into the remote operation system.

On October 18, 2017, we published a second temporary deviation entitled “Drawbridge Operation Regulation; Delaware River, Pennsauken Township, NJ” in the Federal Register (82 FR 48419). This second temporary deviation is from 8 a.m. on October 21, 2017, through 7:59 a.m. on April 19, 2018. This second temporary deviation was issued to complete the evaluation of the changes incorporated into the remote operation system during the first temporary deviation ending October 21, 2017. This notice included a request for comments and related material to reach the Coast Guard on or before January 15, 2018.

On December 6, 2017, we published a notice of proposed rulemaking; reopening of comment period (NPRM); entitled “Drawbridge Operation Regulation; Delaware River, Pennsauken Township, NJ” in the Federal Register (82 FR 57561). This notice included a request for comments and related material to reach the Coast Guard on or before January 15, 2018.

On January 22, 2018, we published a notice of temporary deviation; reopening of comment period; entitled “Drawbridge Operation Regulation; Delaware River, Pennsauken Township, NJ” in the Federal Register (83 FR 2909). This notice included a request for comments and related material to reach the Coast Guard on or before March 2, 2018.

This notice to extend the comment period to on or before March 2, 2018, ensures there is notice and opportunity to comment on the proposed rule that would allow the bridge to be remotely operated from the Conrail South Jersey dispatch center in Mount Laurel, NJ, instead of being operated by an on-site bridge tender, before the proposed changes become final.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. We accept anonymous comments. All comments received will be posted without change to http://www.regulations.gov and will include any personal information you have provided. For more about privacy and the docket, visit http://www.regulations.gov/privacyNotice.

Documents mentioned in this NPRM as being available in this docket, as well as all public comments, will be in our online docket at http://www.regulations.gov and can be viewed by following that website's instructions. Additionally, if you go to the online docket and sign up for email alerts you will be notified when comments are posted or a final rule is published.

Dated: January 24, 2018.
M.L. Austin,
Rear Admiral, U.S. Coast Guard, Commander, Fifth Coast Guard District.

[FR Doc. 2018-03178 Filed 2-14-18; 8:45 am]

BILLING CODE 9110-04-P